DEPARTMENT OF HOUSING AND URBAN DEVELOPMENT

[Docket No. FR-7092-N 10]

30-Day Notice of Proposed Information Collection: Manufactured Housing Survey; OMB Control No.: 2528-0029

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: April 7, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A. The Federal Register notice that solicited public comment on the information collection for a period of 60 days was published on November 27, 2024 at 89 FR 93648.

A. Overview of Information Collection

Title of Information Collection: Manufactured Housing Survey.

OMB Approval Number: 2528-0029.

Type of Request: Extension of a currently approved collection.

Form Number: C-MH-9A.

Description of the need for the information and proposed use: The Manufactured Housing Survey collects data on the characteristics of newly manufactured homes placed for residential use. Key data collected includes sales price and the number of units placed and sold within 4 months of shipment. Other selected housing characteristics collected include size, location, and titling. HUD is authorized to collect these statistics under the “Housing and Community Development Act of 1980,” Title 42 U.S.C. 5424 note (see Attachment 3), which provides the Secretary discretion to take necessary actions to ensure the public is aware of the distinctions between the types of factory-built housing. This allows HUD to collect and report manufactured home sales price information for the nation, Census Regions, States, and selected metropolitan statistical areas, and to monitor whether new manufactured homes are being placed on owned rather than rented lots. HUD also used these data to monitor total housing production and its affordability. Furthermore, the Manufactured Housing Survey serves as a basis for HUD's mandated indexing of loan limits. Section 2145(b) of the Housing and Economic Recovery Act (HERA) of 2008 requires HUD to develop a method of indexing to annually adjust Title I manufactured home loan limits. This index is partially based on manufactured housing price data collected by this survey. Section 2145 of the HERA of 2008 also amends the maximum loan limits for manufactured home loans insured under Title I. The Final Rule, entitled Indexing Methodology for Title I Manufactured Home Loan Limits, was published in the Federal Register on February 28, 2024. This Rule established separate indexing methodologies to annually calculate future loan limits for Manufactured Homes Loans, Manufactured Lot Loans and Manufactured Home and Lot Combination Loans for the Title I Manufactured Home Loan Program. Single- and double-section price data from this survey are used to determine maximum loan amounts for Title I Manufactured Home Loans. HUD implemented the revised loan limits, as shown below, for all manufactured home loans for which applications are received on or after March 29, 2024.

Information collection | Number of respondents | Frequency of response | Responses per annum | Burden hour per response | Annual burden hours | Hourly cost per response | Annual cost
Manufactured Housing Survey | 4,860 | 1 | 4,860 | .33 | 1,603.80 | $36.14 | $57,961.33

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna Guido,
Department Clearance Officer, Office of Policy Development and Research, Chief Data Officer.

[FR Doc. 2025-03597 Filed 3-5-25; 8:45 am]

BILLING CODE 4210-67-P